DEPARTMENT OF TRANSPORTATION

National Highway Traffic Safety Administration

[Docket No. NHTSA-2019-0049; Notice 1]

FCA US, LLC, Receipt of Petition for Decision of Inconsequential Noncompliance

AGENCY: National Highway Traffic Safety Administration (NHTSA), Department of Transportation (DOT).

ACTION: Receipt of petition.

SUMMARY: FCA US, LLC, (f/k/a Chrysler Group LLC) “FCA US” has determined that certain model year (MY) 2018 Jeep Wrangler motor vehicles do not fully comply with Federal Motor Vehicle Safety Standard (FMVSS) No. 205, Glazing Material. FCA US filed a noncompliance report dated April 25, 2019. FCA also petitioned NHTSA on May 15, 2019, and later submitted a supplemental petition on May 31, 2019, for a decision that the subject noncompliance is inconsequential as it relates to motor vehicle safety. This document announces receipt of FCA US's petition.

DATES: The closing date for comments on the petition is October 15, 2019.

ADDRESSES: Interested persons are invited to submit written data, views, and arguments on this petition. Comments must refer to the docket number and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: FCA US has determined that certain MY 2018 Jeep Wrangler motor vehicles do not fully comply with paragraph S5.1.1 of FMVSS No. 205, Glazing Materials (49 CFR 571.205). FCA US filed a noncompliance report dated April 25, 2019, pursuant to 49 CFR part 573, Defect and Noncompliance Responsibility and Reports. FCA also petitioned NHTSA on May 15, 2019, and later submitted a supplemental petition on May 31, 2019, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt, of FCA US's petition, is published under 49 U.S.C. 30118 and 30120 and does not represent any agency decision or other exercises of judgment concerning the merits of the petition.

II. Vehicles Involved: Approximately 1,804 MY 2018 Jeep Wrangler motor vehicles, manufactured between October 13, 2018, and October 19, 2018, are potentially involved.

III. Noncompliance: FCA US explains that the noncompliance is that the liftgate privacy glass in the subject vehicles does not fully comply with paragraph S5.1.1 of FMVSS No. 205. Specifically, the liftgate glass in the subject vehicles contains the AS2 solar glazing marking when they should have been marked with the AS3 privacy glazing marking.

IV. Rule Requirements: Paragraph S5.1.1 of FMVSS No. 205 includes the requirements relevant to this petition. Except as otherwise specifically provided by FMVSS No. 205, glazing for use in multipurpose passenger vehicles shall conform to the requirements for glazing for use in trucks as specified in ANSI/SAE Z26.1-1996 (incorporated by reference, See § 571.5).

V. Summary of FCA US' Petition:

FCA US described the subject noncompliance and stated its belief that the noncompliance is inconsequential as it relates to motor vehicle safety.

In support of its petition, FCA US submitted the following reasoning:

1. NHTSA recently described the glazing materials certification and marking requirements as follows: “A prime glazing manufacturer certifies its glazing by adding to the marks required by section 7 of ANSI/SAE Z26.1-1996”. American National Standard Institute (“ANSI”) standard ANSI/SAE Z26.1-1996 requires privacy glass to meet AS3 requirements for light transmissibility and requires labeling the glass with an AS3 marking.

2. FCA US states that the liftgate glass glazing of the affected vehicles otherwise meets all marking and performance requirements of FMVSS No. 205 and ANSI/SAE Z26.1-1996. Since all transparent sections of the affected glazing fully meet all the applicable performance requirements, FCA US does not believe that the incorrect AS2 marking impacts the ability of the glazing to satisfy the stated purpose or affect the performance of the glazing intended by FMVSS No. 205.

3. FCA US stated that the subject glazing meets all applicable performance requirements of FMVSS No. 205. FCA US stated their belief that there is no safety performance implication associated with this technical noncompliance.

4. In addition to meeting all the component level performance requirements of FMVSS No. 205, the subject glazing also fully meets the vehicle level installation requirements specified by FMVSS No. 205. The subject glazing at 22% transmissibility is permitted in the rear window location on the affected Jeep Wrangler vehicles.

5. The actual transmissibility of the subject glass glazing (approximately 22%) is consistent with all the other glazing rearward of the driver (i.e., left and right-side windows, and the left and right rear quarter window glazing) on the affected Jeep Wrangler vehicles. Accordingly, there is no reason for the customer, state inspection authorities, service personnel, or anyone else to focus on or detect any distinction involving the subject liftgate glass.

6. In the extremely unlikely event that a glazing corresponding to the incorrect markings (i.e., solar glazing with 70% transmittance) was installed on an affected vehicle, this would also be fully compliant to all the requirements of FMVSS No. 205, including component level and vehicle level marking requirements of the standard.

7. FCA US is not aware of any crashes, injuries, or customer complaints associated with the condition.

8. NHTSA has previously granted inconsequential treatment for FMVSS No. 205 glazing material marking noncompliances. Examples of the Agency granting similar inconsequentiality petitions for incorrect markings related to glazing include:

○ Supreme Corporation, NHTSA-2015-0126; N2, October 21, 2016

○ Mitsubishi Motors North America, Inc., NHTSA-2015-0066; N2, August 22, 2015

○ Ford Motor Company, NHTSA-2014-0054; N2, March 2, 2015

○ Custom Glass Solutions Upper Sandusky Corp., NHTSA-2013-0124; N2, January 23, 2015

○ General Motors, LLC, NHTSA-2013-0039; N2, April 28, 2015

○ Fiji Heavy Industries U.S.A. Inc., NHTSA-2013-0017; N2, September 25, 2013

○ Ford Motor Company, NHTSA-2010-0060; N2, May 30, 2013

○ Pilkington North America, Inc., NHTSA-2009-0092; N2, April 17, 2013

○ Pilkington Glass of Canada LTD., NHTSA-2006-24707; N2, July 11, 2006

○ General Motors, NHTSA-2005-21675; N2, August 25, 2005

○ Freightliner LLC, NHTSA-2002-15644; N2, November 24, 2003

○ Toyota Motors North America Inc, NHTSA-2002-12367; N2, March 4, 2003

○ Guardian Ind. Corp., NHTSA-2002-12319; N2, October 23, 2002

○ Ford Motor Company, NHTSA-1999-5210; N2, December 15, 1999

○ Western Star Trucks Inc, NHTSA-1998-3869; N2, December 1, 1998

FCA US concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that FCA US no longer controlled at the time it determined that the noncompliance existed. However, any decision on this petition does not relieve vehicle distributors and dealers of the prohibitions on the sale, offer for sale, or introduction or delivery for introduction into interstate commerce of the noncompliant vehicles under their control after FCA US notified them that the subject noncompliance existed.

Authority: (49 U.S.C. 30118, 30120: delegations of authority at 49 CFR 1.95 and 501.8)

Otto G. Matheke III,
Director, Office of Vehicle Safety Compliance.

[FR Doc. 2019-19724 Filed 9-11-19; 8:45 am]

BILLING CODE 4910-59-P